DEPARTMENT OF TRANSPORTATION

Federal Aviation Administration

14 CFR Part 39

[Docket No. FAA-2013-1056; Directorate Identifier 2013-CE-046-AD]

RIN 2120-AA64

Airworthiness Directives; Dornier Luftfahrt GmbH Airplanes

AGENCY: Federal Aviation Administration (FAA), Department of Transportation (DOT).

ACTION: Notice of proposed rulemaking (NPRM).

SUMMARY: We propose to adopt a new airworthiness directive (AD) for Dornier Luftfahrt GmbH Models Dornier 228-100, 228-101, 228-200, 228-201, 228-202, and 228-212 airplanes that would supersede AD 2006-11-19. This proposed AD results from mandatory continuing airworthiness information (MCAI) originated by an aviation authority of another country to identify and correct an unsafe condition on an aviation product. The MCAI describes the unsafe condition as chafed or damaged wiring on the flight deck overhead panels (5VE and 6VE). We are issuing this proposed AD to require actions to address the unsafe condition on these products.

DATES: We must receive comments on this proposed AD by February 6, 2014.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue SE., Washington, DC 20590.

• Hand Delivery: U.S. Department of Transportation, Docket Operations, M-30, West Building Ground Floor, Room W12-140, 1200 New Jersey Avenue SE., Washington, DC 20590, between 9 a.m. and 5 p.m., Monday through Friday, except Federal holidays.

For service information identified in this proposed AD, contact RUAG Aerospace Services GmbH, Dornier 228 Customer Support, P.O. Box 1253, 82231 Wessling, Germany; telephone: +49 (0) 8153-30 2220; fax: +49 (0) 8153-30 4258; email: custsupport.dornier228@ruag.com; Internet: http://www.ruag.com/en/Aviation/Aviation_Home. You may review copies of the referenced service information at the FAA, Small Airplane Directorate, 901 Locust, Kansas City, Missouri 64106. For information on the availability of this material at the FAA, call (816) 329-4148.

Examining the AD Docket

You may examine the AD docket on the Internet at http://www.regulations.gov by searching and locating Docket Number FAA-2013-1056; or in person at the Docket Management Facility between 9 a.m. and 5 p.m., Monday through Friday, except Federal holidays. The AD docket contains this proposed AD, the regulatory evaluation, any comments received, and other information. The street address for the Docket Office (telephone (800) 647-5527) is in the ADDRESSES section. Comments will be available in the AD docket shortly after receipt.

FOR FURTHER INFORMATION CONTACT: Karl Schletzbaum, Aerospace Engineer, FAA, Small Airplane Directorate, 901 Locust, Room 301, Kansas City, Missouri 64106; telephone: (816) 329-4146; fax: (816) 329-4090; email: karl.schletzbaum@faa.gov.

SUPPLEMENTARY INFORMATION:

Comments Invited

We invite you to send any written relevant data, views, or arguments about this proposed AD. Send your comments to an address listed under the ADDRESSES section. Include “Docket No. FAA-2013-1056; Directorate Identifier 2013-CE-046-AD” at the beginning of your comments. We specifically invite comments on the overall regulatory, economic, environmental, and energy aspects of this proposed AD. We will consider all comments received by the closing date and may amend this proposed AD because of those comments.

We will post all comments we receive, without change, to http://regulations.gov, including any personal information you provide. We will also post a report summarizing each substantive verbal contact we receive about this proposed AD.

Discussion

On May 24, 2006, we issued AD 2006-11-19, Amendment 39-14624 (71 FR 32268; June 5, 2006). That AD required actions intended to address an unsafe condition on the products listed above.

Since we issued AD 2006-11-19 (71 FR 32268; June 5, 2006), Dornier Luftfahrt GmbH changed the compliance time between repetitive inspections and incorporated those inspections into the Time Limits/Maintenance Checks Manual (TLMCM).

The European Aviation Safety Agency (EASA), which is the Technical Agent for the Member States of the European Community, has issued AD No.: 2013-0244, dated October 4, 2013 (referred to after this as “the MCAI”), to correct an unsafe condition for the specified products. The MCAI states:

RUAG Aerospace Services GmbH issued Time Limits/Maintenance Checks Manual (TLMCM) TM-TLMCM-090305-ALL, Revision 5 dated 20 March 2011 respectively TM-TLMCM-228-00002-150610, Revision 1 dated 03 March 2011, listing component life limits and describing maintenance instructions for the Dornier 228 type design. The Document TM-TLMCM-228-00002-150610 is valid for airplane SN 8300 and up and other airplane SN modified according to CN-228-247. The instructions contained in that manual have been identified as mandatory actions for continued airworthiness.

In 2005, chafed wiring was found on 5VE Panel due to lost adhesive of the TY-RAP holder and subsequent vibration of the cable harness.

To address this potential unsafe condition, RUAG issued All Operators Telefax (AOT) No. AOT-228-24-028 and Temporary Revision (TR) 05-05 of the TLMCM introducing repetitive of the cockpit overhead panels 5VE and 6VE and, depending on findings, corrective actions(s). Subsequently, LBA issued AD D-2005-438 (EASA approval 2005-6430) to require those actions.

Since that AD was issued, the instructions of TR 05-05 have been incorporated into TM-TLMCM-090305-ALL, Revision 5 dated 20 March 2011 respectively into TM-TLMCM-228-00002-150610, Revision 1 dated 03 March 2011.

For the reasons described above, this AD retains the requirements of EASA AD D-2005-438, which is superseded, and requires the implementation of the life limits and maintenance actions as specified in the TLMCM (TM-TLMCM-090305-ALL respectively TM-TLMCM-228-00002-150610) for zone 321 overhead panels 5VE/6VE.

You may examine the MCAI on the Internet at http://www.regulations.gov by searching for and locating it in Docket No. FAA-2013-1056.

Relevant Service Information

Dornier Luftfahrt GmbH has issued RUAG Aerospace Services GmbH Dornier 228 TLMCM, TM-TLMCM-090305-ALL, Revision 5, March 20, 2011; and RUAG Aerospace Services GmbH Dornier 228 Airplane Maintenance Manual, TM-AMM-228-00014-080184, Revision 3, October 30, 2012. The actions described in this service information are intended to correct the unsafe condition identified in the MCAI.

FAA's Determination and Requirements of the Proposed AD

This product has been approved by the aviation authority of another country, and is approved for operation in the United States. Pursuant to our bilateral agreement with this State of Design Authority, they have notified us of the unsafe condition described in the MCAI and service information referenced above. We are proposing this AD because we evaluated all information and determined the unsafe condition exists and is likely to exist or develop on other products of the same type design.

Costs of Compliance

We estimate that this proposed AD will affect 17 products of U.S. registry. We also estimate that it would take about 2 work-hours per product to comply with the basic requirements of this proposed AD. The average labor rate is $85 per work-hour.

Based on these figures, we estimate the cost of the proposed AD on U.S. operators to be $2,890 or $170 per product.

In addition, we estimate that any necessary follow-on actions would take about 3 work-hours and require parts costing $1,000, for a cost of $1,255 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-14624 (71 FR 32268; June 5, 2006), and adding the following new AD:

Dornier Luftfahrt GmbH: Docket No. FAA-2013-1056; Directorate Identifier 2013-CE-046-AD.

(a) Comments Due Date

We must receive comments by February 6, 2014.

(b) Affected ADs

This AD supersedes AD 2006-11-19, Amendment 39-14624 (71 FR 32268; June 5, 2006).

(c) Applicability

This AD applies to Dornier Luftfahrt GmbH Dornier Models 228-100, 228-101, 228-200, 228-201, 228-202, and 228-212 airplanes, all serial numbers, certificated in any category.

(d) Subject

Air Transport Association of America (ATA) Code 5: Time Limits.

(e) Reason

This AD was prompted by mandatory continuing airworthiness information (MCAI) originated by an aviation authority of another country to identify and correct an unsafe condition on an aviation product. The MCAI describes the unsafe condition as chafed or damaged wiring on the flight deck overhead panels (5VE and 6VE). We are issuing this AD to prevent chafing and damage to the wiring in the flight deck overhead panels, which could result in short-circuiting of related wiring and possibly lead to electrical failure of affected systems and potential fire in the flight deck.

(f) Actions and Compliance

Unless already done, do the following actions in paragraphs (f)(1) through (f)(3) of this AD:

(1) Within the next 600 hours time-in-service (TIS) after the effective date of this AD and repetitively thereafter at intervals not to exceed 600 hours TIS, inspect the wiring in the flight deck overhead panels, 5VE and 6VE, for chafing, damage, and/or incorrect installation (wire tie attachment holders) following the Zonal Inspection Program for zone 321 in section 5-22-10 of Chapter 05 in RUAG Aerospace Services GmbH Dornier 228 Time Limits/Maintenance Checks Manual (TLMCM), TM-TLMCM-090305-ALL, Revision 5, March 20, 2011; and subjects 31-10-07 and 31-10-08, dated November 25, 2009, of Chapter 31, Indicating/Recording Systems in RUAG Aerospace Services GmbH Dornier 228 Airplane Maintenance Manual, TM-AMM-228-00014-080184, Revision 3, October 30, 2012.

(2) If any chafed or damaged wires are found during any inspection required in paragraph (f)(1) of this AD, before further flight, repair the affected wire(s) and assure correct installation of the wiring in the flight deck overhead panels by reattaching or replacing the wire tie attachment holders and securing any loose wires to the wire tie attachment holders with plastic wire ties following subjects 31-10-07 and 31-10-08, dated November 25, 2009, of Chapter 31, Indicating/Recording Systems in RUAG Aerospace Services GmbH Dornier 228 Airplane Maintenance Manual, TM-AMM-228-00014-080184, Revision 3, October 30, 2012.

(3) To comply with the actions of this AD, you may insert a copy of this AD or a copy of the required actions of this AD into the airworthiness limitations section of the FAA-approved maintenance program (e.g., maintenance manual). This action may be done by an owner/operator (pilot) holding at least a private pilot certificate and must be entered into the airplane records showing compliance with this AD in accordance with 14 CFR 43.9 (a)(1)(4) and 14 CFR 91.417(a)(2)(v). The record must be maintained as required by 14 CFR 91.173 or 135.439.

(g) Other FAA AD Provisions

The following provisions also apply to this AD:

(1) Alternative Methods of Compliance (AMOCs): The Manager, Standards Office, FAA, has the authority to approve AMOCs for this AD, if requested using the procedures found in 14 CFR 39.19. Send information to ATTN: Karl Schletzbaum, Aerospace Engineer, FAA, Small Airplane Directorate, 901 Locust, Room 301, Kansas City, Missouri 64106; telephone: (816) 329-4146; fax: (816) 329-4090; email: karl.schletzbaum@faa.gov. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(h) Related Information

Refer to MCAI European Aviation Safety Agency (EASA) AD No.: 2013-0244, dated October 4, 2013, for related information. You may examine the MCAI on the Internet at http://www.regulations.gov by searching for and locating it in Docket No. FAA-2013-1056. For service information related to this AD, contact RUAG Aerospace Services GmbH, Dornier 228 Customer Support, P.O. Box 1253, 82231 Wessling, Germany; telephone: +49 (0) 8153-30 2220; fax: +49 (0) 8153-30 4258; email: custsupport.dornier228@ruag.com; Internet: http://www.ruag.com/en/Aviation/Aviation_Home. You may review copies of the referenced service information at the FAA, Small Airplane Directorate, 901 Locust, Kansas City, Missouri 64106. For information on the availability of this material at the FAA, call (816) 329-4148.

Issued in Kansas City, Missouri, on December 13, 2013.
Earl Lawrence,
Manager, Small Airplane Directorate, Aircraft Certification Service.

[FR Doc. 2013-30491 Filed 12-20-13; 8:45 am]

BILLING CODE 4910-13-P